DEPARTMENT OF COMMERCE

National Oceanic and Atmospheric Administration

Notice Requesting Nominations for the Advisory Committee on Commercial Remote Sensing (ACCRES)

ACTION: Request for membership nominations.

SUMMARY: The Department of Commerce is seeking highly qualified individuals who are knowledgeable about the commercial space-based remote sensing industry and uses of space-based remote sensing data to serve on the Advisory Committee on Commercial Remote Sensing (ACCRES). The Committee is comprised of leaders in the commercial space-based remote sensing industry, space-based remote sensing data users, government, and academia. The SUPPLEMENTARY INFORMATION section of this notice provides committee and membership criteria.

SUPPLEMENTARY INFORMATION: ACCRES was established by the Secretary of Commerce on May 21, 2002, to advise the Secretary, through the Under Secretary of Commerce for Oceans and Atmosphere, on matters relating to the U.S. commercial remote sensing industry and NOAA's activities to carry out responsibilities of the Department of Commerce as set forth in the National and Commercial Space Programs Act of 2010 (the Act), Title 51 U.S.C. 60101 et seq (formerly the Land Remote Sensing Policy Act of 1992, 15 U.S.C. Secs. 5621-5625).

Committee members serve in a representative capacity for a term of two years and may serve additional terms, if reappointed. No more than 20 individuals at a time may serve on the Committee. ACCRES will have a fairly balanced membership consisting of approximately 9 to 20 members. Nominations are encouraged from all interested U.S. persons and organizations representing interests affected by the regulation of remote sensing. Nominees must represent stakeholders in remote sensing, space commerce, space policy, or a related field and be able to attend committee meetings that are held usually two times per year. Membership is voluntary, and service is without pay. Each nomination that is submitted should include the proposed committee member's name and organizational affiliation, a brief description of the nominee's qualifications and interest in serving on the Committee, a curriculum vitae or resume of the nominee, and no more than three supporting letters describing the nominee's qualifications and interest in serving on the Committee. Self-nominations are acceptable. The following contact information should accompany each submission: The nominee's name, address, phone number, and email address.

Nominations should be sent to Tahara Dawkins, Director, Commercial Remote Sensing Regulatory Affairs Office, 1335 East West Highway, G-101, Silver Spring, Maryland 20910 or email tahara.dawkins@noaa.gov. Nominations must be postmarked or emailed no later than 30 days from the publication date of this notice. The full text of the Committee Charter and its current membership can be viewed at the Agency's web page at: http://www.nesdis.noaa.gov/CRSRA/accresHome.html.

FOR FURTHER INFORMATION CONTACT: Tashaun Pierre, Commercial Remote Sensing Regulatory Affairs Office, NOAA Satellite and Information Services, 1335 East West Highway, Room G101, Silver Spring, Maryland 20910; telephone (301) 713-7077, email Tashaun.pierre@noaa.gov.

Stephen M. Volz,
Assistant Administrator for Satellite and Information Services.

[FR Doc. 2019-22660 Filed 10-16-19; 8:45 am]

BILLING CODE 3510-HR-P